DEPARTMENT OF HEALTH AND HUMAN SERVICES

Health Resources and Services Administration

Notice of Supplemental Award; Autism Longitudinal Data Project

AGENCY: Health Resources and Services Administration (HRSA), Department of Health and Human Services.

ACTION: Notice of supplemental award.

SUMMARY: HRSA is announcing supplemental award funds through the Patient-Centered Outcomes Research Trust Fund to the current HRSA award recipient to expand activities under the Autism Longitudinal Data Project (ALDP). The funding will be used to create and share a combined de-identified dataset from the Boston Birth Cohort (BBC), Massachusetts Pregnancy to Early Life Longitudinal Data System, and Agency for Healthcare Research and Quality Social Determinants of Health database.

FOR FURTHER INFORMATION CONTACT: Jessica DiBari, Senior Health Scientist, Division of Research, Office of Epidemiology and Research, Maternal and Child Health Bureau, HRSA, at JDiBari@hrsa.gov or 301-443-2170.

SUPPLEMENTARY INFORMATION:

(Intended Recipient) of the Award: Johns Hopkins University.

Project Period: The cooperative agreement is currently in year 2 of a 5-year grant cycle. Johns Hopkins University will track the supplemental award from the Patient-Centered Outcomes Research Trust Fund separately from the UT7MC45949 award.

Amount of Award: One award for $457,833.

Assistance Listing (CFDA) Number: 93.877.

Award Instrument: Non-competitive single-source supplement.

Authority: 26 U.S.C. 9511(d)(2)(C).

Table 1—Award Recipient and Award Amount
Grant No. | Award recipient name | State | Award amount
UT7MC45949 | Johns Hopkins University | MD | $457,833

Justification: In fiscal year 2024, the Office of the Secretary's Patient-Centered Outcomes Research Trust Fund, administered by the Office of the Assistant Secretary for Planning and Evaluation, will support a supplement to the HRSA-funded ALDP to create a longitudinal dataset for conducting patient-centered maternal and infant health research by linking multiple databases. Through this supplement, ALDP will develop a dataset on maternal and infant biological, socio-economic, behavioral risk and protective factors, and health services indicators. The ALDP current recipient is uniquely qualified to conduct this work because it has:

• A long-standing record of successfully completing government-funded projects.

• Led and managed the BBC since its inception in 1998.

• Deep experience in the complexities of data sharing across institutions and the technical aspects of linking data.

• Access to and adherence to protections for restricted datasets.

Carole Johnson,
Administrator.

[FR Doc. 2024-20570 Filed 9-10-24; 8:45 am]

BILLING CODE 4165-15-P